DEPARTMENT OF STATE

[Delegation of Authority No. 347]

Delegation by the Secretary of State to the Assistant Secretary for Consular Affairs and the Deputy Assistant Secretary for Visa Services of the Authority To Make Findings of Extraordinary Circumstance for Aliens Who Remain in the United States Beyond Their Authorized Periods

By virtue of the authority vested in me as Secretary of State, including Section 1 of the State Department Basic Authorities Act, as amended (22 U.S.C. 2651a), I hereby delegate to the Assistant Secretary for Consular Affairs and the Deputy Assistant Secretary for Visa Services, to the extent authorized by law, the authority under Immigration and Nationality Act (INA) section 222(g)(2)(B), 8 U.S.C. 1202(g)(2)(B), to make findings that extraordinary circumstances exist, relative to circumstances that may be confronted by one or more aliens, to ensure that the alien would not be denied admission by operation of section 222(g) on a subsequent application for admission, when they remained in the United States beyond their authorized period of stay.

Any act, executive order, regulation, or procedure subject to, or affected by, this delegation shall be deemed to be such act, executive order, regulation, or procedure as amended from time to time.

Notwithstanding this delegation of authority, the Secretary, the Deputy Secretary, the Deputy Secretary for Management and Resources, and the Under Secretary for Management may at any time exercise any authority or function delegated by this delegation of authority.

This delegation of authority shall be published in the Federal Register.

Dated: January 29, 2013.
Hillary Rodham Clinton,
Secretary of State.

[FR Doc. 2013-04915 Filed 3-1-13; 8:45 am]

BILLING CODE 4710-06-P